DEPARTMENT OF STATE

[Public Notice: 10472]

In the Matter of the Amendment of the Designation of al-Shabaab (and Other Aliases) as a Specially Designated Global Terrorist

Based upon a review of the administrative record assembled in this matter, and in consultation with the Attorney General and the Secretary of the Treasury, I have concluded that there is a sufficient factual basis to find that the following are aliases of al-Shabaab: al-Hijra, Al Hijra, Muslim Youth Center, MYC, Pumwani Muslim Youth, Pumwani Islamist Muslim Youth Center.

Therefore, pursuant to Section 1(b) of Executive Order 13224, I hereby amend the designation of al-Shabaab as a Specially Designated Global Terrorist to include the following new aliases: al-Hijra, Al Hijra, Muslim Youth Center, MYC, Pumwani Muslim Youth, Pumwani Islamist Muslim Youth Center.

This determination shall be published in the Federal Register.

Dated: July 9, 2018.
Michael Pompeo,
Secretary of State.

[FR Doc. 2018-15729 Filed 7-20-18; 8:45 am]

BILLING CODE 4710-AD-P